DEPARTMENT OF DEFENSE

Department of the Navy

Notice of Intent To Grant Exclusive Patent License; Expression Pathology, Inc.

AGENCY: Department of the Navy, DoD.

ACTION: Notice.

SUMMARY: The Department of the Navy hereby gives notice of its intent to grant to Expression Pathology, Inc., a revocable, non-assignable, exclusive license to practice in the field of consumable slides and other coated substrates for laser microdissection of tissue samples for life science research, and human clinical and veterinary diagnostic applications in the United States and certain foreign countries, the Government-owned inventions described in U.S. Patent No. 6,905,738: Generation of Viable Cell Active Biomaterial Patterns by Laser Transfer, Navy Case No. 79,702.//U.S. Patent No. 6,936,311: Generation of Biomaterial Microarrays by Laser Transfer, Navy Case No. 82,621.//U.S. Patent Application Serial No. 10/863,833: Biological Laser Printing for Tissue Microdissection via Indirect Photon-Biomaterial Interactions, Navy Case No. 96,075.//U.S. Patent Application Serial No. 10/863,850: Biological Laser Printing for Tissue Microdissection via Indirect Photon-Biomaterial Interactions, Navy Case No. 84,621 and any continuations, divisionals or re-issues thereof.

DATES: Anyone wishing to object to the grant of this license must file written objections along with supporting evidence, if any, not later than March 2, 2006.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, telephone 202-767-3083. Due to U.S. Postal delays, please fax 202-404-7920, e-mail kuhl@utopia.nrl.navy.mil, or use courier delivery to expedite response.

(Authority: 35 U.S.C. 207, 37 CFR part 404.)
Dated: February 8, 2006.
Eric McDonald,
Lieutenant Commander, Judge Advocate General's Corps, U.S. Navy, Federal Register Liaison Officer.

[FR Doc. E6-2136 Filed 2-14-06; 8:45 am]

BILLING CODE 3810-ff-P